DEPARTMENT OF THE INTERIOR

National Park Service

National Register of Historic Places; Notification of Pending Nominations and Related Actions

Nominations for the following properties being considered for listing or related actions in the National Register were received by the National Park Service before March 17, 2007.

Pursuant to section 60.13 of 36 CFR Part 60 written comments concerning the significance of these properties under the National Register criteria for evaluation may be forwarded by United States Postal Service, to the National Register of Historic Places, National Park Service, 1849 C St., NW., Room 2280, Washington, DC 20240; by all other carriers, National Register of Historic Places, National Park Service, 1201 Eye St., NW., 8th floor, Washington DC, 20005; or by fax, 202-371-6447. Written or faxed comments should be submitted by April 17, 2007.

J. Paul Loether,
Chief, National Register of Historic Places/National Historic Landmarks Program.

Colorado

Arapahoe County

Commandant of Cadets Building, U.S. Air Force Academy, 1016 Boston St., Aurora, 07000340

Hopkins Farm, 4400 E. Quincy Ave., Englewood, 07000341

Las Animas County

Kim Schools (New Deal Resources on Colorado's Eastern Plains MPS), 425 State St., Kim, 07000342

Otero County

La Junta City Park (New Deal Resources on Colorado's Eastern Plains MPS), Bounded by Colorado and Park Aves. and 10th and 14th Sts., La Junta, 07000343

Prowers County

Holly Gymnasium (New Deal Resources on Colorado's Eastern Plains MPS), N. Main St., Holly, 07000344

Sedgwick County

Sedgwick County Courthouse (New Deal Resources on Colorado's Eastern Plains MPS), 315 Cedar St., Julesburg, 07000345

Iowa

Butler County

Netcott—Pfeiffer House, 206 Buswell St., Parkersburg, 07000347

Dubuque County

Dubuque Star Brewery (Dubuque, Iowa MPS), 500 E. Fifth St., Dubuque, 07000348

Polk County

Chamberlain, S.S., Building (Architectural Legacy of Proudfoot & Bird in Iowa MPS), 1312 Locust St., Des Moines, 07000346

Missouri

St. Louis Independent City

Lucas Avenue Industrial Historic District (Boundary Increase), roughly bounded by Locust St., Delmar, and 19th and 20th Sts., St. Louis (Independent City), 07000349

New Jersey

Bergen County

Easton Tower, Red Mill Rd., NJ 4 and Saddle River Rd., Paramus Borough, 07000355

Burlington County

St. Mary of the Lakes Catholic Church, 108 Stokes Rd., Medford Lakes, 07000357

Essex County

St. Stanislaus Bishop and Martyr Roman Catholic Church, 146 Irvine Turner Blvd., Newark, 07000359

Temple B'Nai Abraham, 621 Clinton Ave., Newark, 07000358

Morris County

Community of St. John Baptist, 82 W. Main St., Mendham, 07000356

Somerset County

Middlebush Village Historic District, Amwell Rd., S. Middlebush Rd., Railroad Ave., Olcott St., and Debow St., Franklin, 07000354

North Carolina

Cleveland County

Southern Railway Company Overhead Bridge, Spanning the double tracks on the Norfolk Southern RR bet. Battleground and Railroad Aves., ½ blk N. of King St., Kings Mountain, 07000351

Davidson County

Lexington Residential Historic District, Roughly bounded by State St., W. Fifth St., Martin St., Westside Dr., Southbound St., and W. Ninth Ave., Lexington, 07000350

Scotland County

Erwin, Dr. Evan Alexander, House, 520 S. Main St., Laurinburg, 07000353

Wake County

Fuquay-Varina Woman's Club Clubhouse, 602 N. Ennis St., Faquay-Varina, 07000352

Oregon

Lane County

Potter, Wallace and Glenn, House, 120 Fir Ln., Eugene, 07000360

Multnomah County

Swetland Building (Downtown Portland, Oregon MPS), 500 S.W. 5th Ave., Portland, 07000367

Sherman County

DeMoss Springs Park, DeMoss Springs Park, DeMoss Springs, 07000366

Tennessee

Shelby County

Southern Railway Industrial Historic District, Roughly bounded by Beale, Myrtle, and the Souther Railway tracks, Linden, Jessamine and Orleans, Memphis, 07000361

Virginia

Fairfax County

Merrybrook, 2346 Centreville Rd., Herndon, 07000362

Richmond Independent City

Richmond Locomotive and Machine Works, 1331 North Blvd., Richmond (Independent City), 07000363

Virginia Beach Independent City

Woodhouse House, 3067 W. Neck Rd., Virginia Beach (Independent City), 07000372

Washington

Franklin County

Sacajawea State Park, 2503 Sacajawea Park Rd., Pasco, 07000364

Whitman County

Central Service Station, 534 Whitman St., Rosalia, 07000365

Yakima County

Gothen Creek Ranger Station, Forest Service Rd., Gifford Pinchot National Forest, 07000369

Wisconsin

Brown County

Randall Avenue Historic District, Generally bounded by Ridgeway Blvd. and Oakdale Ave. and Glenwood Ave., De Pere, 07000370

Wyoming

Fremont County

T Cross Ranch Rural Historic District, Address Restricted, Dubois, 07000371

Sublette County

Trappers Point Site, Address Restricted, Pinedale, 07000368

[FR Doc. E7-5954 Filed 3-30-07; 8:45 am]

BILLING CODE 4312-51-P